DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Northeast Region Permit Family of Forms.

OMB Control Number: 0648-0202.

Form Number(s): NA.

Type of Request: Regular submission (revision and extension of a current information collection).

Number of Respondents: 14,852.

Average Hours per Response: Vessel permits, 45 minutes for initial and 30 for renewal; dealer permits, 15 minutes for initial and 5 minutes for renewal; operator permits, 1 hour; request for vessel replacement or upgrade, 3 hours; permit history retention, 30 minutes; vessel monitoring system (VMS) installation, 1 hour; activation notification and certification form, 5 minutes; non-automated reports through VMS, 5 minutes; Good Samaritan Days at Sea (DAS) credits, 1 hour; standing by entangled whale notification, 2 hours and request for DAS credit, 30 minutes; DAS credit for canceled trip: Email to coordinate monitored landing, 5 minutes and request for credit, 10 minutes; VMS power down exemption requests, 30 minutes; requests for regulated exemptions for specific fisheries, gear and areas, 5 minutes; gillnet designation and requests for tags: designation 10 minutes, requests for tags, 2 minutes; lobster area waiver, 20 minutes and request for tags, 2 minutes; state quota transfers, 1 hour; vessel owner single letter request, 5 minutes.

Burden Hours: 16,421.

Needs and Uses: This request is for revision and extension of a current information collection.

Under the Magnuson-Stevens Fishery Conservation and Management Act, the Secretary of Commerce (Secretary) has the responsibility for the conservation and management of marine fishery resources. Much of this responsibility has been delegated to the National Oceanic and Atmospheric Administration (NOAA)/National Marine Fisheries Service (NMFS). Under this stewardship role, the Secretary was given certain regulatory authorities to ensure the most beneficial uses of these resources. One of the regulatory steps taken to carry out the conservation and management objectives is to collect information from users of the resource.

As regional Fishery Management Councils develop specific Fishery Management Plans (FMP), the Secretary has promulgated rules for the issuance of permits to individuals and organizations participating in Federally controlled fisheries in order to: (1) Register fishermen, fishing vessels, fish dealers and processors, (2) List the characteristics of fishing vessels and/or dealer/processor operations, (3) Exercise influence over compliance (e.g. withhold issuance pending collection of unpaid penalties), (4) Provide a mailing list and email list for the dissemination of important information to the industry, (5) Register participants to be considered for limited entry, and (6) Provide a universe for data collection samples. Identification of the participants, their gear types, vessels, and expected activity levels is an effective tool in the enforcement of fishery regulations.

Limited access fishing permits, where entry is reviewed during a one-time application period, place size, tonnage, and horsepower restrictions on the ability of a vessel owner to upgrade or replace their vessel. If a vessel owner wishes to upgrade any of the specifications of his/her vessel such as length overall, net tonnage, gross tonnage, horsepower, or vessel fish hold capacity, he/she must submit, in writing, a request for a vessel upgrade. A request, in writing, also must be made in order to replace one limited access permitted vessel with another as vessel size restrictions are limited to 10-percent above the baseline length overall, gross, and net tonnage, 20-percent above the baseline horsepower, and 10-percent above the vessel hold capacity measurement for limited access vessels with Tier 1 or 2 Atlantic mackerel permits.

Vessels with particular permits are also required to use an electronic vessel monitoring system (VMS) to declare their intent to fish before starting a particular trip, change their intent to fish during a trip, and to report real-time catch and discard information. While vessels are also required to report catch information weekly or monthly depending on their permit through vessel trip reports (VTRs) (VTR collection approved in OMB Control No. 0648-0212), it is often necessary to have daily catch reporting in order to have a real-time understanding of the operation of the fishery. Real time catch reporting is especially important for high volume fisheries, where large amounts of fish are landed in short periods of time, so that the fishery can be shut down when approaching the annual, regional, or seasonal quota.

Vessels are also required to request, in writing, participation in any of the various exemption programs offered in the Northeast region. Exemption programs may allow a vessel to fish in an area that is limited to vessels of a particular size, using a certain gear type, or fishing for a particular species. Vessels are also required to request gillnet and lobster tags through the Northeast region permit office when using gillnet gear or lobster traps. Lastly, vessel owners that own multiple vessels, but would like to request communication from NMFS be consolidated into one mailing (and not separate mailings for each vessel), may request the single letter vessel owner option to improve efficiency of their business practice.

This revision/extension removes several requirements from this collection, either because they are no longer valid, or because they have been moved to other information collections.

Affected Public: Business or other for-profit organizations.

Frequency: Annually, every three years, daily and on occasion.

Respondent's Obligation: Mandatory.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: April 24, 2013.
Gwellnar Banks,
Management Analyst, Office of the Chief Information Officer.

[FR Doc. 2013-10003 Filed 4-26-13; 8:45 am]

BILLING CODE 3510-22-P